DEPARTMENT OF TRANSPORTATION

Pipeline and Hazardous Materials Safety Administration

49 CFR Parts 192 and 195

[Docket No. PHMSA-2019-0199]

Pipeline Safety: Midstream Facilities Frequently Asked Questions

AGENCY: Pipeline and Hazardous Materials Safety Administration (PHMSA); DOT.

ACTION: Notification and request for comments; extension of comment period.

SUMMARY: PHMSA published a notification in the Federal Register seeking public comments on a document titled “Pipeline Safety: Midstream Facilities Frequently Asked Questions.” PHMSA has received a request to extend the comment period to allow stakeholders more time to evaluate the frequently asked questions. Upon review of the request, PHMSA is extending the comment period for an additional 30 days.

DATES: The closing date for filing comments is extended from January 4, 2021, to February 4, 2021.

ADDRESSES: You may submit comments, which should be identified by docket number PHMSA-2019-0199, by any of the following methods:

• Federal eRulemaking Portal: Comments may be submitted to http://www.regulations.gov. Please follow the online instructions to submit comments.

• Mail: Comments may be submitted by mailing them to the Dockets Management System, U.S. Department of Transportation, Dockets Operations, M-30, Ground Floor, Room W12-140, 1200 New Jersey Avenue SE, Washington, DC 20590-0001.

• Hand Delivery: Comments may be submitted by hand delivering them to 1200 New Jersey Avenue SE, West Building, Ground Floor, Room W12-140, Washington, DC 20590-0001. Comments may be delivered between 9 a.m. and 5 p.m. ET, Monday through Friday, except for Federal holidays.

• Fax: Comments may be faxed to 202-493-2251.

• Instructions: Identify docket number PHMSA-2019-0199 at the beginning of your comments. If you submit your comments by mail, you must submit two copies. If you wish to receive confirmation that PHMSA received your comments, you must include a self-addressed stamped postcard. Internet users should submit comments at http://www.regulations.gov.

• Privacy Act: DOT may solicit comments from the public regarding certain general notices. DOT posts these comments, without edit, including any personal information the commenter provides, to www.regulations.gov, as described in the system of records notice (DOT/ALL-14 FDMS), which can be reviewed at www.dot.gov/privacy.

• Confidential Business Information: Confidential Business Information (CBI) is commercial or financial information that is both customarily and actually treated as private by its owner. Under the Freedom of Information Act (FOIA) (5 U.S.C. 552), CBI is exempt from public disclosure. If your comments responsive to this document contain commercial or financial information that is customarily treated as private, that you actually treat as private, and that is relevant or responsive to this document, it is important that you clearly designate the submitted comments as CBI. Pursuant to 49 CFR 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under FOIA, and they will not be placed in the public docket of this notification. Submissions containing CBI should be sent to Sayler Palabrica at sayler.palabrica@dot.gov. Any commentary PHMSA receives that is not specifically designated as CBI will be placed in the public docket for this rulemaking.

• Docket: The docket containing background documents and received comments is available at http://www.regulations.gov. Once on this site, please follow the online instructions for accessing the dockets. Alternatively, you may review these documents in person at the street address listed above.

FOR FURTHER INFORMATION CONTACT: For further information contact Sayler Palabrica at 202-366-0559 or by email at sayler.palabrica@dot.gov.

SUPPLEMENTARY INFORMATION:

Background

On November 4, 2020, (85 FR 70124) PHMSA published a document titled “Pipeline Safety: Midstream Facilities Frequently Asked Questions” requesting public comments on a set of seven draft frequently asked questions developed by the Midstream Processing Working Group, established by the Gas Pipeline Advisory Committee and the Liquid Pipeline Advisory Committee. On December 4, 2020, PHMSA received a comment extension request submitted by the following entities:

• Association of Oil Pipelines

• American Petroleum Institute

• Interstate Natural Gas Association of America

• American Gas Association

• GPA Midstream Association

This request is available in the docket for this notification. PHMSA believes that extension of the comment period is warranted based on the information provided in the request. Therefore, PHMSA has extended the comment period from January 4, 2021, to February 4, 2021.

Issued in Washington, DC, on December 10, 2020, under authority delegated in 49 CFR 1.97.
Alan K. Mayberry,
Associate Administrator for Pipeline Safety.

[FR Doc. 2020-27560 Filed 12-15-20; 8:45 am]

BILLING CODE 4910-60-P